INTERNATIONAL TRADE COMMISSION

[Investigation Nos. 701-TA-488 and 731-TA-1199-1200 (Final)]

Large Residential Washers From Korea and Mexico

Determinations

On the basis of the record ¹ developed in the subject investigations, the United States International Trade Commission (Commission) determines, pursuant to sections 705(b) and 735(b) of the Tariff Act of 1930 (19 U.S.C. 1671d(b) and 1673d(b)) (the Act), that an industry in the United States is materially injured by reason of imports from Korea of large residential washers that the U.S. Department of Commerce (Commerce) has determined are subsidized by the Government of Korea and sold in the United States at less than fair value (LTFV). The Commission further determines that an industry in the United States is materially injured by reason of imports from Mexico of large residential washers that the Commerce has determined are sold in the United States at LTFV. The products subject to these investigations are provided for in subheading 8450.20.00 of the Harmonized Tariff Schedule of the United States, and imported under statistical reporting number 8450.20.0090. Products subject to these investigations may also be imported under HTS subheadings 8450.11.00, 8450.90.20 or 8450.90.60.

¹ The record is defined in sec. 207.2(f) of the Commission's Rules of Practice and Procedure (19 CFR 207.2(f)).

Background

The Commission instituted these investigations effective December 30, 2011, following receipt of a petition filed with the Commission and Commerce by Whirlpool Corporation, Benton Harbor, MI. The final phase of the investigations was scheduled by the Commission following notification of a preliminary determination by Commerce that imports of large residential washers from Korea were subsidized within the meaning of section 703(b) of the Act (19 U.S.C. 1671b(b)) and that imports of large residential washers from Korea and Mexico were sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on August 24, 2012 (77 FR 51569). The hearing was held in Washington, DC, on December 11, 2012, and all persons who requested the opportunity were permitted to appear in person or by counsel.

The Commission transmitted its determinations in these investigations to the Secretary of Commerce on February 8, 2013. The views of the Commission are contained in USITC Publication 4378 (February 2013), entitled Certain Large Residential Washers From Korea and Mexico: Investigation Nos. 701-TA-488 and 731-TA-1199-1200 (Final).

By order of the Commission.
Issued: February 8, 2013.
Lisa R. Barton,
Acting Secretary to the Commission.

[FR Doc. 2013-03422 Filed 2-13-13; 8:45 am]

BILLING CODE 7020-02-P